DEPARTMENT OF THE INTERIOR

Bureau of Reclamation

Agency Information Collection; Activities Under OMB Review; Comment Request

AGENCY: Bureau of Reclamation, Interior.

ACTION: Notice of renewal of a currently approved collection (OMB No. 1006-0005).

SUMMARY: The Bureau of Reclamation (we, our, or us) has forwarded the following Information Collection Request (ICR) to the Office of Management and Budget (OMB) for review and approval: Individual Landholder's Certification and Reporting Forms for Acreage Limitation. The ICR describes the nature of the information collection and its expected cost and burden.

DATES: OMB has up to 60 days to approve or disapprove this information collection, but may respond after 30 days; therefore, public comments must be received on or before June 22, 2011 to assure maximum consideration.

ADDRESSES: Send written comments regarding the burden estimate, or any other aspect of the information collection, including suggestions for reducing the burden, to the Desk Officer for the Department of the Interior at the Office of Management and Budget, Office of Information and Regulatory Affairs, via facsimile to (202) 395-5806, or e-mail to OIRA_DOCKET@omb.eop.gov. A copy of your comments should also be directed to the Bureau of Reclamation, Attention: 84-53000, P.O. Box 25007, Denver, CO 80225-0007.

FOR FURTHER INFORMATION CONTACT: Stephanie McPhee at (303) 445-2897. The entire Information Collection Request may be found at http://www.reginfo.gov.

SUPPLEMENTARY INFORMATION:

Title: Individual Landholder's Certification and Reporting Forms for Acreage Limitation, 43 CFR part 426 and 43 CFR part 428.

Abstract: This information collection requires certain landholders (direct or indirect landowners or lessees) and farm operators to complete forms demonstrating their compliance with the acreage limitation provisions of Federal reclamation law, as required under the Reclamation Reform Act of 1982 (RRA), Acreage Limitation Rules and Regulations, 43 CFR part 426, and Information Requirements for Certain Farm Operations In Excess of 960 Acres and the Eligibility of Certain Formerly Excess Land, 43 CFR part 428. Responses are required to retain or obtain a benefit. These forms are submitted to districts that use the information to establish each landholder's status with respect to landownership limitations, full-cost pricing thresholds, lease requirements, and other provisions of Federal reclamation law. In addition, forms are submitted by certain farm operators to provide information concerning the services they provide and the nature of their farm operating arrangements. All landholders whose entire westwide landholdings total 40 acres or less are exempt from the requirement to submit RRA forms. Landholders who are “qualified recipients” have RRA forms submittal thresholds of 80 acres or 240 acres depending on the district's RRA forms submittal threshold category where the land is held. Only farm operators who provide multiple services to more than 960 acres held in trusts or by legal entities are required to submit forms.

Minor editorial changes were made to the forms and instructions prior to the 60-day comment period initiated by the notice published in the Federal Register (75 FR 59740, Sept. 28, 2010). These changes are designed to assist the respondents by increasing their understanding of the forms, clarifying the instructions for use when completing the forms, and clarifying the information that is required to be submitted to the districts with the forms. No public comments were received in response to that notice. The proposed revisions to the RRA forms will be effective in the 2012 water year.

Frequency: Annually.

Respondents: Landholders and farm operators of certain lands in our projects, whose landholdings exceed specified RRA forms submittal thresholds.

Estimated Total Number of Respondents: 15,279

Estimated Number of Responses per Respondent: 1.02

Estimated Total Number of Annual Responses: 15,585

Estimated Total Annual Burden on Respondents: 11,522 hours

Estimate of Burden for Each Form
Form No. | Burden estimate per form (in minutes) | Number of respondents | Annual number of responses | Annual burden on respondents (in hours)
Form 7-2180 | 60 | 4,124 | 4,206 | 4,206
Form 7-2180EZ | 45 | 425 | 434 | 326
Form 7-2181 | 78 | 1,205 | 1,229 | 1,598
Form 7-2184 | 45 | 32 | 33 | 25
Form 7-2190 | 60 | 1,620 | 1,652 | 1,652
Form 7-2190EZ | 45 | 96 | 98 | 74
Form 7-2191 | 78 | 777 | 793 | 1,031
Form 7-2194 | 45 | 4 | 4 | 3
Form 7-21PE | 75 | 146 | 149 | 186
Form 7-21PE-IND | 12 | 4 | 4 | 1
Form 7-21TRUST | 60 | 882 | 900 | 900
Form 7-21VERIFY | 12 | 5,434 | 5,543 | 1,109
Form 7-21FC | 30 | 214 | 218 | 109
Form 7-21XS | 30 | 144 | 147 | 74
Form 7-21FARMOP | 78 | 172 | 175 | 228
Totals |  | 15,279 | 15,585 | 11,522

Comments

Comments are invited on:

(a) Whether the proposed collection of information is necessary for the proper performance of our functions, including whether the information will have practical use;

(b) Accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to, a collection of information unless it displays a currently valid OMB control number. Reclamation will display a valid OMB control number on the RRA forms.

Before including your address, telephone number, e-mail address, or other personal identifying information in your comment, you should be aware that your entire comment—including your personal identifying information—may be made publicly available at any time. While you can ask us in your comment to withhold your personal identifying information from public review, we cannot guarantee that we will be able to do so.

Roseann Gonzales,
Director, Policy and Administration, Denver Office.

[FR Doc. 2011-12586 Filed 5-20-11; 8:45 am]

BILLING CODE 4310-MN-P